DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona: Mohave (FEMA Docket No.: B-1967). | City of Lake Havasu City (19-09-1104P). | The Honorable Cal S. Sheehy, Mayor, City of Lake Havasu City, 2330 McCulloch Boulevard North, Lake Havasu City, AZ 86403. | City Hall, 2330 McCulloch Boulevard North, Lake Havasu City, AZ 86403. | Dec. 31, 2019 | 040116
California: Calaveras (FEMA Docket No.: B-1967). | Unincorporated areas of Calaveras County (19-09-0712P). | Mr. Albert Alt, Chief Administrative Officer, Calaveras County, 891 Mountain Ranch Road, San Andreas, CA 95249. | Calaveras County Planning Department, 891 Mountain Ranch Road, San Andreas, CA 95249. | Jan. 3, 2020 | 060633
Colorado:
Adams (FEMA Docket No.: B-1967). | City of Thornton (18-08-1245P). | The Honorable Heidi Williams, Mayor, City of Thornton, 9500 Civic Center Drive, Thornton, CO 80229. | City Hall, 9500 Civic Center Drive, Thornton, CO 80229. | Jan. 3, 2020 | 080007
Adams (FEMA Docket No.: B-1967). | Unincorporated areas of Adams County (18-08-1245P). | The Honorable Steve O'Dorisio, Chairman, Adams County Board of Commissioners, 4430 South Adams County Parkway, 5th Floor, Suite C5000A, Brighton, CO 80601. | Adams County Development and Engineering Services Department, 4430 South Adams County Parkway, Brighton, CO 80601. | Jan. 3, 2020 | 080001
Jefferson (FEMA Docket No.: B-1967). | City of Lakewood (19-08-0656P). | The Honorable Adam Paul, Mayor, City of Lakewood, 480 South Allison Parkway, Lakewood, CO 80226. | Engineering Department, 480 South Allison Parkway, Lakewood, CO 80226. | Jan. 10, 2020 | 085075
Larimer (FEMA Docket No.: B-1970). | Town of Berthoud (19-08-0573P). | Mr. Chris Kirk, Town of Berthoud Administrator, P.O. Box 1229, Berthoud, CO 80513. | Public Works Department, 807 Mountain Avenue, Berthoud, CO 80513. | Jan. 17, 2020 | 080296
Larimer (FEMA Docket No.: B-1970). | Unincorporated areas of Larimer County (19-08-0573P). | The Honorable Tom Donnelly, Chairman, Larimer County Board of Commissioners, P.O. Box 1190, Fort Collins, CO 80522. | Larimer County Engineering Department, 200 West Oak Street, Suite 3000, Fort Collins, CO 80521. | Jan. 17, 2020 | 080101
Summit (FEMA Docket No.: B-1974). | Town of Breckenridge (19-08-0262P). | The Honorable Eric Mamula, Mayor, Town of Breckenridge, P.O. Box 168, Breckenridge, CO 80424. | Public Works Department, 1095 Airport Road, Breckenridge, CO 80424. | Jan. 13, 2020 | 080172
Weld (FEMA Docket No.: B-1974). | City of Greeley (19-08-0012P). | The Honorable John Gates, Mayor, City of Greeley, 1000 10th Street, Greeley, CO 80631. | City Hall, 1000 10th Street, Greeley, CO 80631. | Jan. 16, 2020 | 080184
Weld (FEMA Docket No.: B-1974). | Unincorporated areas of Weld County (19-08-0012P). | The Honorable Barbara Kirkmeyer, Chair, Weld County Board of Commissioners, P.O. Box 758, Greeley, CO 80632. | Weld County Department of Planning and Zoning, 1555 North 17th Avenue, Greeley, CO 80631. | Jan. 16, 2020 | 080266
Connecticut: Hartford (FEMA Docket No.: B-1974). | Town of West Hartford (19-01-1237P). | The Honorable Matthew Hart, Town of West Hartford Manager, 50 South Main Street, West Hartford, CT 06107. | Town Hall, 50 South Main Street, West Hartford, CT 06107. | Jan. 17, 2020 | 095082
Delaware: Sussex (FEMA Docket No.: B-1967). | Unincorporated areas of Sussex County (19-03-0441P). | The Honorable Michael H. Vincent, President, Sussex County Council, P.O. Box 589, Georgetown, DE 19947. | Sussex County Planning and Zoning Department, 2 The Circle, Georgetown, DE 19947. | Jan. 3, 2020 | 100029
Florida:
Charlotte (FEMA Docket No.: B-1974). | Unincorporated areas of Charlotte County (19-04-5020P). | The Honorable Ken Doherty, Chairman, Charlotte County Board of Commissioners, 18500 Murdock Circle, Suite 536, Port Charlotte, FL 33948. | Charlotte County Building Department, 18500 Murdock Circle, Port Charlotte, FL 33948. | Jan. 13, 2020 | 120061
Collier (FEMA Docket No.: B-1967). | City of Naples (19-04-4530P). | The Honorable Bill Barnett, Mayor, City of Naples, 735 8th Street South, Naples, FL 34112. | Building Department, 295 Riverside Circle, Naples, FL 34102. | Dec. 31, 2019 | 125130
Lake (FEMA Docket No.: B-1970). | City of Groveland (19-04-4877X). | The Honorable Evelyn Wilson, Mayor, City of Groveland, 156 South Lake Avenue, Groveland, FL 34736. | City Hall, 156 South Lake Avenue, Groveland, FL 34736. | Jan. 17, 2020 | 120135
Lake (FEMA Docket No.: B-1970). | Unincorporated areas of Lake County (19-04-4877X). | Mr. Jeff Cole, Lake County Manager, 315 West Main Street, Tavares, FL 32778. | Lake County Public Works Department, 323 North Sinclair Avenue, Tavares, FL 32778. | Jan. 17, 2020 | 120421
Lee (FEMA Docket No.: B-1974). | City of Sanibel (19-04-4688P). | The Honorable Kevin Ruane, Mayor, City of Sanibel, 800 Dunlop Road, Sanibel, FL 33957. | Development Services, Planning Division, 800 Dunlop Road, Sanibel, FL 33957. | Jan. 9, 2020 | 120402
Lee (FEMA Docket No.: B-1967). | Unincorporated areas of Lee County (19-04-2304P). | Mr. Roger Desjarlais, Lee County Manager, P.O. Box 398, Fort Myers, FL 33902. | Lee County Department of Community Development, 1500 Monroe Street, Fort Myers, FL 33901. | Dec. 26, 2019 | 125124
Lee (FEMA Docket No.: B-1970). | Unincorporated areas of Lee County (19-04-3867P). | Mr. Roger Desjarlais, Lee County Manager, P.O. Box 398, Fort Myers, FL 33902. | Lee County Department of Community Development, 1500 Monroe Street, Fort Myers, FL 33901. | Jan. 13, 2020 | 125124
Marion (FEMA Docket No.: B-1967). | City of Ocala (19-04-1095P). | The Honorable Kent Guinn, Mayor, City of Ocala, 110 Southeast Watula Avenue, Ocala, FL 34471. | City Hall, 110 Southeast Watula Avenue, Ocala, FL 34471. | Dec. 27, 2019 | 120330
Monroe (FEMA Docket No.: B-1970). | Unincorporated areas of Monroe County (19-04-4672P). | The Honorable Sylvia Murphy, Mayor, Monroe County Board of Commissioners, 102050 Overseas Highway, Suite 234, Key Largo, FL 33037. | Monroe County Building Department, 2798 Overseas Highway, Suite 300, Marathon, FL 33050. | Jan. 9, 2020 | 125129
Monroe (FEMA Docket No.: B-1967). | Village of Islamorada (19-04-5066P). | The Honorable Deb Gillis, Mayor, Village of Islamorada, 86800 Overseas Highway, Islamorada, FL 33036. | Building Department, 86800 Overseas Highway, Islamorada, FL 33036. | Dec. 30, 2019 | 120424
Osceola (FEMA Docket No.: B-1970). | Unincorporated areas of Osceola County (19-04-0903P). | The Honorable Cheryl Grieb, Chair, Osceola County Board of Commissioners, 1 Courthouse Square, Suite 4700, Kissimmee, FL 34741. | Osceola County Stormwater Department, 1 Courthouse Square, Suite 3100, Kissimmee, FL 34741. | Jan. 13, 2020 | 120189
Seminole (FEMA Docket No.: B-1967). | Unincorporated areas of Seminole County (19-04-3092P). | The Honorable Brenda Carey, Chair, Seminole County Board of Commissioners, 1101 East 1st Street, Sanford, FL 32771. | Seminole County Development Review Division, 1101 East 1st Street, Sanford, FL 32771. | Dec. 27, 2019 | 120289
Volusia (FEMA Docket No.: B-1974). | City of Daytona Beach (19-04-0945P). | The Honorable Derrick L. Henry, Mayor, City of Daytona Beach, 301 South Ridgewood Avenue, Room 200, Daytona Beach, FL 32114. | Utilities Department, 125 Basin Street, Suite 131, Daytona Beach, FL 32115. | Jan. 10, 2020 | 125099
Volusia (FEMA Docket No.: B-1974). | Unincorporated areas of Volusia County (19-04-0945P). | Mr. George Recktendwald, Volusia County Manager, 123 West Indiana Avenue, DeLand, FL 32720. | Volusia County Building and Zoning Department, 123 West Indiana Avenue, DeLand, FL 32720. | Jan. 10, 2020 | 125155
Maine: Lincoln (FEMA Docket No.: B-1974). | Town of Southport (19-01-0607P). | The Honorable Gerald L. Gamage, Chairman, Town of Southport Board of Selectmen, P.O. Box 149, Southport, ME 04576. | Code Enforcement Department, 361 Hendricks Hill Road, Southport, ME 04576. | Jan. 17, 2020 | 230221
Maryland:
Baltimore (FEMA Docket No.: B-1967). | Unincorporated areas of Baltimore County (19-03-1183P). | The Honorable John A. Olszewski, Jr., Baltimore County Executive, 400 Washington Avenue, Towson, MD 21204. | Baltimore County Department of Public Works, 111 West Chesapeake Avenue, Room 219, Towson, MD 21204. | Dec. 31, 2019 | 240010
Prince George's (FEMA Docket No.: B-1970). | Unincorporated areas of Prince George's County (19-03-0431P). | The Honorable Angela D. Alsobrooks, Prince George's County Executive, 1301 McCormick Drive, Suite 4000, Largo, MD 20774. | Prince George's County Inglewood Center II, 1801 McCormick Drive, Suite 500, Largo, MD 20774. | Jan. 17, 2020 | 245208
Massachusetts:
Plymouth (FEMA Docket No.: B-1970). | Town of Duxbury (19-01-0097P). | The Honorable David J. Madigan, Chairman, Town of Duxbury Board of Selectmen, 878 Tremont Street, Duxbury, MA 02332. | Municipal Services Department, 878 Tremont Street, Duxbury, MA 02332. | Jan. 10, 2020 | 250263
Plymouth (FEMA Docket No.: B-1967). | Town of Marion (19-01-0738P). | The Honorable Randy L. Parker, Chairman, Town of Marion Board of Selectmen, 2 Spring Street, Marion, MA 02738. | Town Hall, 2 Spring Street, Marion, MA 02738. | Jan. 10, 2020 | 255213
Plymouth (FEMA Docket No.: B-1967). | Town of Marion (19-01-1162P). | The Honorable Randy L. Parker, Chairman, Town of Marion Board of Selectmen, 2 Spring Street, Marion, MA 02738. | Town Hall, 2 Spring Street, Marion, MA 02738. | Jan. 3, 2020 | 255213
Plymouth (FEMA Docket No.: B-1970). | Town of Marshfield (19-01-0097P). | The Honorable Joseph E. Kelleher, Chairman, Town of Marshfield Board of Selectmen, 870 Moraine Street, Marshfield, MA 02050. | Building Department, 870 Moraine Street, Marshfield, MA 02050. | Jan. 10, 2020 | 250273
Plymouth (FEMA Docket No.: B-1967). | Town of Mattapoisett (19-01-0738P). | The Honorable R. Tyler Macallister, Chairman, Town of Mattapoisett Board of Selectmen, P.O. Box 705, Mattapoisett, MA 02739. | Town Hall, 16 Main Street, Mattapoisett, MA 02739. | Jan. 10, 2020 | 255214
New Mexico: Taos (FEMA Docket No.: B-1970). | Town of Taos (19-06-1284P). | The Honorable Daniel R. Barrone, Mayor, Town of Taos, 400 Camino De La Placita, Taos, NM 87571. | Department of Public Works, 400 Camino De La Placita, Taos, NM 87571. | Jan. 10, 2020 | 350080
Pennsylvania:
Chester (FEMA Docket No.: B-1967). | Township of West Pikeland (18-03-1853P). | The Honorable Charlie Humphreys, Chairman, Township of West Pikeland Board of Supervisors, 1645 Art School Road, Chester Springs, PA 19425. | Township Hall, 1645 Art School Road, Chester Springs, PA 19425. | Dec. 31, 2019 | 421151
Montgomery (FEMA Docket No.: B-1967). | Township of Whitpain (19-03-0500P). | The Honorable Frederick R. Conner, Jr., Chairman, Township of Whitpain Board of Supervisors, 960 Wentz Road, Blue Bell, PA 19422. | Code Enforcement Department, 960 Wentz Road, Blue Bell, PA 19422. | Jan. 3, 2020 | 420713
Texas:
Bexar (FEMA Docket No.: B-1974). | City of Converse (18-06-2882P). | The Honorable Al Suarez, Mayor, City of Converse, 406 South Seguin Road, Converse, TX 78109. | City Hall, 406 South Seguin Road, Converse, TX 78109. | Jan. 13, 2020 | 480038
Dallas (FEMA Docket No.: B-1970). | City of Coppell (19-06-0270P). | The Honorable Karen Hunt, Mayor, City of Coppell, P.O. Box 9478, Coppell, TX 75019. | City Hall, 200 South Main Street, Coppell, TX 76099. | Jan. 6, 2020 | 480170
Harris (FEMA Docket No.: B-1967). | City of Baytown (18-06-1537P). | The Honorable Brandon Capetillo, Mayor, City of Baytown, 2401 Market Street, Baytown, TX 77520. | Engineering Department, 2123 Market Street, Baytown, TX 77520. | Dec. 30, 2019 | 485456
Harris (FEMA Docket No.: B-1967). | Unincorporated areas of Harris County (18-06-1537P). | The Honorable Lina Hidalgo, Harris County Judge, 1001 Preston Street, Suite 911, Houston, TX 77002. | Harris County Permits Office, 10555 Northwest Freeway, Suite 120, Houston, TX 77092. | Dec. 30, 2019 | 480287
Tarrant (FEMA Docket No.: B-1970). | City of Grapevine (19-06-0270P). | The Honorable William D. Tate, Mayor, City of Grapevine, P.O. Box 95104, Grapevine, TX 76099. | City Hall, 200 South Main Street, Grapevine, TX 76099. | Jan. 6, 2020 | 480598
Utah:
Washington (FEMA Docket No.: B-1967). | City of Ivins (19-08-0375P). | The Honorable Chris Hart, Mayor, City of Ivins, 55 North Main Street, Ivins, UT 84738. | City Hall, 55 North Main Street, Ivins, UT 84738. | Dec. 31, 2019 | 490173
Washington (FEMA Docket No.: B-1967). | City of Santa Clara (19-08-0375P). | The Honorable Rick Rosenberg, Mayor, City of Santa Clara, 2603 Santa Clara Drive, Santa Clara, UT 84765. | City Hall, 2603 Santa Clara Drive, Santa Clara, UT 84765. | Dec. 31, 2019 | 490178
Virginia: Prince William (FEMA Docket No.: B-1970). | Unincorporated areas of Prince William County (19-03-0792P). | Mr. Christopher E. Martino, Prince William County Executive, 1 County Complex Court, Prince William, VA 22192. | Prince William County Department of Public Works, Watershed Management Branch, 5 County Complex Court, Prince William, VA 22192. | Jan. 16, 2020 | 510119

[FR Doc. 2020-01903 Filed 1-31-20; 8:45 am]

BILLING CODE 9110-12-P